DEPARTMENT OF HEALTH AND HUMAN SERVICES

National Institutes of Health

Eunice Kennedy Shriver National Institute of Child Health & Human Development; Amended Notice of Meeting

Notice is hereby given of a change for the meeting of the Developmental Biology Subcommittee, October 03, 2019, 8:00 a.m. to 5:00 p.m., Embassy Suites—Chevy Chase Pavilion, which was published in the Federal Register on August 19, 2019, 84 FR 42936.

The name of the meeting has been corrected. The meeting is closed to the public.

Dated: September 11, 2019.
Ronald J. Livingston, Jr.,
Program Analyst, Office of Federal Advisory Committee Policy.

[FR Doc. 2019-20029 Filed 9-16-19; 8:45 am]

BILLING CODE 4140-01-P